DEPARTMENT OF AGRICULTURE

Rural Utilities Service

Elk Mound Combustion Turbine Project, Notice of Finding of No Significant Impact

AGENCY: Rural Utilities Service, USDA.

ACTION: Notice of finding of no significant impact.

SUMMARY: Notice is hereby given that the Rural Utilities Service (RUS), pursuant to the National Environmental Policy Act of 1969, as amended, the Council on Environmental Quality regulations (40 CFR parts 1500-1508), and RUS Environmental Policies and Procedures (7 CFR part 1794), has made a finding of No Significant Impact (FONSI) with respect to a project proposed by Dairyland Power Cooperative (DPC) of La Crosse, Wisconsin. The proposed project will have a total of two combustion turbine units. Each turbine unit will have a maximum rating of 49 MW. DPC proposes to construct the facility in Wheaton Township in Chippewa County, Wisconsin. The site is located adjacent to DPC's Elk Mound Substation, which is located north of Highway 29. The primary purpose of the facility is to meet DPC's peak electrical load. The facility will require approximately 5 acres of land. However, DPC wants to purchase up to 60 acres in order to provide sufficient construction lay-down area and to maintain an appropriate distance between the facility and its neighbors. The primary fuel for the facility will be natural gas that will be obtained from the Viking Gas Transmission Company pipeline that is located approximately 2.2 miles north of the plant site. A 6-inch lateral pipeline will connect the Viking pipeline with the plant site. No new electric transmission lines will be required.

RUS has concluded that the impacts from the proposed project would not be significant and that the proposed action is not a major federal action significantly affecting the quality of the human environment. Therefore, the preparation of an environmental impact statement is not necessary.

FOR FURTHER INFORMATION CONTACT: Nurul Islam, Environmental Protection Specialist, Rural Utilities Service, Engineering and Environmental Staff, Stop 1571, 1400 Independence Avenue, SW, Washington, DC 20250-1571, telephone: (202) 720-1414. His e-mail address is nislam@rus.usda.gov. Information is also available from Mr. George L. Johnston, Senior Environmental Biologist, DPC, 3200 East Avenue South, La Crosse, Wisconsin 54601, telephone (608) 787-1322, FAX: (608) 787-1241. His e-mail address is: glj@dairynet.com.

SUPPLEMENTARY INFORMATION: RUS, in accordance with its environmental policies and procedures, required that DPC prepare an Environmental Analysis (EVAL) reflecting the potential impacts of the proposed facilities. The EVAL, which includes input from federal, state, and local agencies, has been reviewed and accepted as RUS' Environmental Assessment (EA) for the project in accordance with § 1794.41. RUS and DPC published notices of the availability of the EA and solicit public comments per § 1794.42. No responses were received from the public or any agencies and also no objections were raised to the project. Based on the EA, RUS has concluded that the proposed action will not have a significant effect to various resources, including important farmland, floodplains, wetlands, cultural resources, threatened and endangered species and their critical habitat, air and water quality, and noise. RUS has also determined that there would be no negative impacts of the proposed project on minority communities and low-income communities as a result of the construction of the project.

Copies of the EA and FONSI can be reviewed at the headquarters of DPC and RUS, at the addresses provided above in this notice.

Dated: October 10, 2000.
George J. Bagnall,
Acting Assistant Administrator, Electric Program.

[FR Doc. 00-26459 Filed 10-13-00; 8:45 am]

BILLING CODE 3410-15-P